DEPARTMENT OF ENERGY

Federal Energy Regulatory Commission

[Project No. 12595-002]

Greybull Valley Irrigation District; Notice of Preliminary Permit Application Accepted for Filing and Soliciting Comments, Motions To Intervene, and Competing Applications

On February 1, 2012, the Greybull Valley Irrigation District filed an application for a preliminary permit, pursuant to section 4(f) of the Federal Power Act (FPA), proposing to study the feasibility of the Upper Sunshine Reservoir Hydroelectric Power Project (Upper Sunshine Project or project) to be located on Sunshine Creek, near Meeteetse, Park County, Wyoming. The sole purpose of a preliminary permit, if issued, is to grant the permit holder priority to file a license application during the permit term. A preliminary permit does not authorize the permit holder to perform any land-disturbing activities or otherwise enter upon lands or waters owned by others without the owners' express permission.

The proposed project would utilize the existing Upper Sunshine dam and reservoir having a total storage capacity of 53,515 acre-feet at elevation 6,595 feet mean sea level, and would consist of the following new features: (1) A 6-foot-diameter penstock extending from the existing conduit to the powerhouse adjacent to the dam; (2) a powerhouse containing one Francis turbine/generator unit rated at 5 megawatts or less at 150 feet of net head; (3) a tailrace channel discharging from the powerhouse to Sunshine Creek; (4) a 3-mile-long, 25-kilovolt transmission line extending from the project to a transmission line owned by Rocky Mountain Power (the point of interconnection); and (5) appurtenant facilities. The estimated annual generation of the Upper Sunshine Project would be 6 gigawatt-hours.

Applicant Contacts: Mr. Lee Allen, 989 Highway 20 West, P.O. Box 44, Emblem, Wyoming 82422; phone: (307) 762-3555. Mr. William Schlenker, 989 Highway 20 West, P.O. Box 44, Emblem, Wyoming 82422; phone: (307) 762-3555.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-12595-002) in the docket number field to access the document. For assistance, contact FERC Online Support.

Dated: May 4, 2012.
Kimberly D. Bose,
Secretary.

[FR Doc. 2012-11352 Filed 5-10-12; 8:45 am]

BILLING CODE 6717-01-P